Proclamation 10737 of April 30, 2024

National Building Safety Month, 2024

By the President of the United States of America

A Proclamation

During National Building Safety Month, we thank the engineers, construction workers, trades unions, building inspectors, and other building professionals, who make our buildings stronger, more sustainable, and more resilient.

Building codes help to keep us all safe at home, at work, and in our communities. But two in three communities have not yet adopted the latest building codes, leaving them more vulnerable to fires, floods, and storms, which pose a growing threat in the face of climate change. There is so much we can do to change that by investing in housing, infrastructure, and code enforcement to prevent accidents and protect our families.

Today, a record 1.7 million new housing units are under construction nationwide, and my Budget has a plan to build 2 million more affordable homes, boosting supply and bringing down costs for families. My Administration is making the most significant investment in generations in our Nation's infrastructure while working to remove poisonous lead pipes from every home and school in America so that every child can turn on the faucet and drink clean water. We are modernizing our power grid and investing in energy-efficient buildings and homes so that when disasters hit, the lights stay on. We are weatherizing homes so that families are safe and comfortable inside during extreme heat or cold, storms, and other extreme weather and pay less for utilities. For all of these Federal projects, we are making sure that construction materials are safe, environmentally friendly, high quality, and made in America.

I am calling on the Congress to pass legislation that would provide tax credits for first-time homebuyers and fortify housing to be safe from extreme weather and climate change and built to last.

At the same time, we are making the most significant investment in fighting climate change in history—providing tax credits so folks can make their homes more energy efficient and affordable while also ensuring that the clean energy industries of the future are being built here at home. We are working to dedicate 40 percent of the overall benefits of certain Federal investments in our sustainable housing, clean energy, and building safety projects to disadvantaged communities that have borne the brunt of economic disinvestment for too long so they can be stronger and more resilient in the face of a changing climate.

To make sure all of these new projects are safe, my Administration launched the National Initiative to Advance Building Codes and is investing over $1 billion to help thousands of communities adopt modern building codes to strengthen their housing and communities from risk. The Department of Housing and Urban Development is working to ensure federally funded housing is safe from flooding through safer flood standards. The Federal Emergency Management Agency is helping communities devastated by floods, fires, tornadoes, and hurricanes to rebuild more safely by incentivizing the adoption of modern building codes. For every dollar invested in sturdier new buildings that meet modern codes, it saves 11 times that in avoided disaster repair and recovery costs down the line.

Every American has a part to play in keeping their homes safe and secure and building a more resilient Nation. You can start by changing the batteries in your smoke alarms regularly and ensuring you have backup power for your critical appliances. Get rid of mold and pests to avoid health issues. If wildfires are a concern where you live, clear leaves and debris from around your community and home to reduce the risk of fires. If you plan to renovate, make sure you follow local home improvement requirements or get expert advice and quality work from a professional contractor who honors those codes.

Today, America is in the midst of a great national comeback. Our economy is strong, and we are building a future of possibilities, investing in our infrastructure, our communities, and our people. That is what America is all about. This month, we recommit to the work of keeping our Nation's buildings safe and built to last for generations to come.

NOW, THEREFORE, I, JOSEPH R. BIDEN JR., President of the United States of America, by virtue of the authority vested in me by the Constitution and the laws of the United States, do hereby proclaim May 2024 as National Building Safety Month. I encourage citizens, government agencies, businesses, nonprofits, and other interested groups to join in activities that raise awareness about building safety. I also call on all Americans to learn more about how they can contribute to building safety at home, at work, and in their communities.

IN WITNESS WHEREOF, I have hereunto set my hand this thirtieth day of April, in the year of our Lord two thousand twenty-four, and of the Independence of the United States of America the two hundred and forty-eighth.

[FR Doc. 2024-09814

Filed 5-2-24; 8:45 am]

Billing code 3395-F4-P